DEPARTMENT OF JUSTICE

[OMB Number 1125-0013]

Agency Information Collection Activities; Proposed eCollection; eComments Requested; Revision of a Currently Approved Collection; Request by Organization for Accreditation or Renewal of Accreditation of Non-Attorney Representative (Form EOIR-31A)

AGENCY: Executive Office for Immigration Review, Department of Justice.

ACTION: 30-Day notice.

SUMMARY: The Executive Office for Immigration Review (EOIR), Department of Justice (DOJ), will be submitting the following information collection request to the Office of Management and Budget (OMB) for review and approval in accordance with the Paperwork Reduction Act of 1995. This proposed information collection was previously published in the Federal Register on November 3, 2022, allowing for a 30-day comment period, however the email address for comments was incorrect. This notice corrects the email address and extends the period for comment.

DATES: Comments are encouraged and will be accepted for an additional 30 days until January 5, 2023.

FOR FURTHER INFORMATION CONTACT: If you have additional comments especially on the estimated public burden or associated response time, suggestions, or need a copy of the proposed information collection instrument with instructions or additional information, please contact Lauren Alder Reid, Assistant Director, Office of Policy, Executive Office for Immigration Review, 5107 Leesburg Pike, Suite 2500, Falls Church, VA 22041, telephone: (703) 305-0289. Written comments and/or suggestions can also be sent to the Office of Management and Budget, Office of Information and Regulatory Affairs, Attention Department of Justice Desk Officer, Washington, DC 20503 or sent to OIRA_submission@omb.eop.gov.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and/or

• Minimize the burden of the collection of information on those who are to respond, including through the use of appropriate automated, electronic, mechanical, or other technological collection techniques or other forms of information technology, e.g., permitting electronic submission of responses.

Overview of this information collection:

1. Type of Information Collection: Revision of a currently approved collection.

2. The Title of the Form/Collection: Request by Organization for Accreditation or Renewal Accreditation of Non-Attorney Representative.

3. The agency form number, if any, and the applicable component of the Department sponsoring the collection:

Form number: EOIR-31A.

Sponsor: Office of Legal Access Programs, Executive Office for Immigration Review, U.S. Department of Justice.

4. Affected public who will be asked or required to respond, as well as a brief abstract: Non-profit organizations seeking accreditation or renewal of accreditation of its representatives by the Office of Legal Access Programs of the Executive Office for Immigration Review.

Abstract: This information collection will allow an organization to seek accreditation or renewal of accreditation of a non-attorney representative to appear before EOIR and/or the Department of Homeland Security. This information collection is necessary to determine whether a representative meets the eligibility requirements for accreditation. Requests can be made using a fillable pdf. application or electronic submission.

5. An estimate of the total number of respondents and the amount of time estimated for an average respondent to respond: It is estimated that 550 respondents will complete the form annually for initial accreditation requests, with an average of 3 hours per response, for a total of 1,650 hours. It is estimated that 369 respondents will complete the form annually for renewal requests, with an average of 7 hours per response, for a total of 2,583 hours.

6. An estimate of the total public burden (in hours) associated with the collection: There are an estimated 4,233 total annual burden hours associated with this collection.

If additional information is required contact: Robert Houser, Department Clearance Officer, Policy and Planning Staff, Office of the Chief Information Officer, Justice Management Division, United States Department of Justice, Two Constitution Square, 145 N Street NE, Suite 3E.206, Washington, DC 20530.

Dated: November 30, 2022.
Robert Houser,
Department Clearance Officer Policy and Planning Staff, Office of the Chief Information Officer, U.S. Department of Justice.

[FR Doc. 2022-26437 Filed 12-5-22; 8:45 am]

BILLING CODE 4410-30-P